DEPARTMENT OF ENERGY

Federal Energy Regulatory Commission

Combined Notice of Filings #1

Take notice that the Commission received the following electric corporate filings:

Docket Numbers: EC18-85-000.

Applicants: New England Power Company.

Description: Addendum to April 16, 2018 Application for Authorization Under Section 203 of the Federal Power Act of New England Power Company.

Filed Date: 5/24/18.

Accession Number: 20180524-5236.

Comments Due: 5 p.m. ET 6/14/18.

Take notice that the Commission received the following electric rate filings:

Docket Numbers: ER10-1391-002.

Applicants: San Diego Gas & Electric Company.

Description: Compliance filing: SDGE Revisions to SGIA, LGIA and GIP, WDAT V.6 to be effective 5/24/2018.

Filed Date: 5/23/18.

Accession Number: 20180523-5158.

Comments Due: 5 p.m. ET 6/13/18.

Docket Numbers: ER10-1626-008.

Applicants: Tenaska Virginia Partners, L.P.

Description: Notification of Change in Status of Tenaska Virginia Partners, L.P.

Filed Date: 5/24/18.

Accession Number: 20180524-5234.

Comments Due: 5 p.m. ET 6/14/18.

Docket Numbers: ER15-1029-004.

Applicants: Chubu TT Energy Management Inc.

Description: Notice of Non-Material Change in Status of Chubu TT Energy Management Inc.

Filed Date: 5/25/18.

Accession Number: 20180525-5079.

Comments Due: 5 p.m. ET 6/15/18.

Docket Numbers: ER17-1609-001.

Applicants: Carroll County Energy LLC.

Description: Notice of Non-Material Change in Status of Carroll County Energy LLC.

Filed Date: 5/24/18.

Accession Number: 20180524-5233.

Comments Due: 5 p.m. ET 6/14/18.

Docket Numbers: ER18-499-003.

Applicants: Southwestern Electric Power Company.

Description: Tariff Amendment: Hope PSA to be effective 1/1/2018.

Filed Date: 5/24/18.

Accession Number: 20180524-5226.

Comments Due: 5 p.m. ET 6/1/18.

Docket Numbers: ER18-865-002.

Applicants: Power 52 Inc.

Description: Supplement to May 22, 2018 Power 52 Inc. tariff filing (Asset Appendix).

Filed Date: 5/24/18.

Accession Number: 20180524-5098.

Comments Due: 5 p.m. ET 6/14/18.

Docket Numbers: ER18-1402-002.

Applicants: KCP&L Greater Missouri Operations Company.

Description: Tariff Amendment: Amendment to 205 to be effective 6/1/2018.

Filed Date: 5/25/18.

Accession Number: 20180525-5003.

Comments Due: 5 p.m. ET 5/30/18.

Docket Numbers: ER18-1458-001.

Applicants: Duke Energy Florida, LLC.

Description: Tariff Amendment: Joint OATT Real Transmission Power Losses (DEF) 2018 Amendment to be effective 5/1/2018.

Filed Date: 5/23/18.

Accession Number: 20180523-5140.

Comments Due: 5 p.m. ET 6/13/18.

Docket Numbers: ER18-1684-000.

Applicants: PJM Interconnection, L.L.C.

Description: § 205(d) Rate Filing: Original WMPA SA No. 5096; Queue No. AD1-063 to be effective 5/21/2018.

Filed Date: 5/24/18.

Accession Number: 20180524-5192.

Comments Due: 5 p.m. ET 6/14/18.

Docket Numbers: ER18-1685-000.

Applicants: PJM Interconnection, L.L.C.

Description: Tariff Cancellation: Notice of Cancellation of Service Agreement No. 4670; Queue No. AA2-059 to be effective 6/4/2018.

Filed Date: 5/25/18.

Accession Number: 20180525-5074.

Comments Due: 5 p.m. ET 6/15/18.

Docket Numbers: ER18-1686-000.

Applicants: Blackstone Wind Farm II LLC.

Description: Baseline eTariff Filing: Rate Schedule for Reactive Supply and Voltage Control to be effective 7/24/2018.

Filed Date: 5/25/18.

Accession Number: 20180525-5076.

Comments Due: 5 p.m. ET 6/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2018.
Nathaniel J. Davis, Sr.,
Deputy Secretary.

[FR Doc. 2018-11888 Filed 6-1-18; 8:45 am]

BILLING CODE 6717-01-P